DEPARTMENT OF TRANSPORTATION

Federal Aviation Administration

Forty Ninth RTCA SC-206 Plenary

AGENCY: Federal Aviation Administration (FAA), U.S. Department of Transportation (DOT).

ACTION: Forty Ninth RTCA SC-206 Plenary.

SUMMARY: The FAA is issuing this notice to advise the public of a meeting of Forty Ninth RTCA SC-206 Plenary. This is a subcommittee to RTCA.

DATES: The meeting will be held December 4-8, 2017, 8:30 a.m.-5:00 p.m.

ADDRESSES: The meeting will be held at: Harris Corporation, 2235 Monroe Street, Herndon, VA 20170.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org. Pre-registration is required.

SUPPLEMENTARY INFORMATION: Pursuant to section 10(a)(2) of the Federal Advisory Committee Act (Pub. L. 92-463, 5 U.S.C., App.), notice is hereby given for a meeting of the Forty Ninth RTCA SC-206 Plenary. The agenda will include the following:

Monday, December 4, 2017—8:30 a.m.-5:00 p.m.

1. Opening Plenary

2. Opening remarks: DFO, RTCA, and Chairman

3. Attendees' introductions

4. Review and approval of meeting agenda

5. Approval of previous meeting minutes (Washington, DC)

6. Action item review

7. Sub-Groups reports:

a. SG1: CSC JC and Other SC Coordination (ISRAs)

b. SG4: EDR Guidelines

c. SG5: FIS-B MOPS

8. Decision on rejoining with WG-76

9. Industry presentations

10. Sub-Group meetings

Tuesday, December 5, 2017—8:30 a.m.-5:00 p.m.

Sub-Groups meetings

Wednesday, December 6, 2017—8:30 a.m.-5:00 p.m.

Sub-Groups meetings

Thursday, December 7, 2017—8:30 a.m.-5:00 p.m.

Sub-Groups meetings

Friday, December 8, 2017—8:30 a.m.-11:00 a.m.

1. Closing Plenary

2. Sub-Groups reports

3. Future meeting plans and dates

4. Industry coordination

5. Action item review

6. Other business

7. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on September 25, 2017.
Mohannad Dawoud,
Management & Program Analyst, Partnership Contracts Branch, ANG-A17, NextGen, Procurement Services Division, Federal Aviation Administration.

[FR Doc. 2017-20795 Filed 9-27-17; 8:45 am]

BILLING CODE 4910-13-P